DEPARTMENT OF DEFENSE

Office of the Secretary

[Docket ID DOD-2010-OS-0159]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended.

DATES: This proposed action would be effective without further notice on January 7, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington, DC 20301-1155, or Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 29, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 30, 2010.
Morgan F. Park,
Alternate OSD Federal Register Liaison Officer, Department of Defense.

DWHS P37

* * * * *

SYSTEM LOCATION:

Delete entry and replace with “Washington Headquarters Services (WHS), Human Resources Directorate (HRD), Labor and Management Employee Relations, Human Resources Directorate, Washington Headquarters Services, Department of Defense, 1155 Defense Pentagon, Washington, DC 20301-1155.”

CATEGORIES OF INDIVIDUALS COVERED BY THE SYSTEM:

Delete entry and replace with “Employees of the Office of the Secretary of Defense, Joint Staff, Washington Headquarters Services, and Department of Defense (DoD) Agencies and Field Activities serviced by Washington Headquarters Services Human Resources Directorate who have submitted grievances covered by a negotiated grievance procedure or unfair labor practice charges.”

CATEGORIES OF RECORDS IN THE SYSTEM:

Delete entry and replace with “Case file contains individual's name, case number, subject of grievance, background papers, and details pertaining to the case or issue. Case files may also contain the following information that is not solicited from individuals: Work and/or home addresses and telephone numbers and Social Security Numbers (SSN).”

AUTHORITY FOR MAINTENANCE OF THE SYSTEM:

Delete entry and replace with “5 U.S.C. 7121, Grievance Procedures; DoD 1400.25-M (Subchapter 771), DoD Civilian Personnel Manual (Administrative Grievance System); Washington Headquarters Services Administrative Instruction 37, Employee Grievances, and E.O. 9397 (SSN), as amended.”

PURPOSE(S):

Delete entry and replace with “Records are used in the administration, processing, and resolution of unfair labor complaints, grievance arbitrations, negotiability, and representation issues. De-identified statistical data may be used by management for reporting and policy evaluation purposes.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may specifically be disclosed outside the DoD as a routine use pursuant to 5 U.S.C. 552a(b)(3) as follows:

To officials of labor organizations reorganized under the Civil Service Reform Act when relevant and necessary to the performance of their exclusive representation duties concerning personnel policies, practices, and matters affecting working conditions.

To representatives of the U.S. Office of Personnel Management (OPM) on matters relating to the inspection, survey, audit, or evaluation of civilian personnel management programs.

To the Comptroller General, or any of his authorized representatives, in the course of the performance of duties of the Government Accountability Office relating to the Labor-Management Relations Program.

To arbitrators, examiners, or other third parties appointed to inquire into or adjudicate labor-management issues.

The `Blanket Routine Uses' set forth at the beginning of the Office of the Secretary of Defense compilation of systems of records notices also apply to this system of records.”

POLICIES AND PRACTICES FOR STORING, RETRIEVING, ACCESSING, RETAINING, AND DISPOSING OF RECORDS IN THE SYSTEM:

STORAGE:

Delete entry and replace with “Paper file folders and electronic storage media.”

RETRIEVABILITY:

Delete entry and replace with “Names of individuals initiating grievance procedures, case number, and/or by subject matter.”

SAFEGUARDS:

Delete entry and replace with “Records are maintained in areas only accessible to Labor Management Employee Relations personnel who must access the records to perform their official duties. The electronic records require a Common Access Card and can only be accessed by Labor Management Employee Relations personnel. Paper records are stored in locked file cabinets in secured offices and buildings that are locked and guarded during non-duty hours.”

RETENTION AND DISPOSAL:

Delete entry and replace with “Grievance files are disposed of four years after the case is closed.”

SYSTEM MANAGER(S) AND ADDRESS:

Delete entry and replace with “Assistant Director for Labor and Management Employee Relations, Human Resources Directorate, Washington Headquarters Services, Department of Defense, 1155 Defense Pentagon, Washington, DC 20301-1155.”

NOTIFICATION PROCEDURE:

Delete entry and replace with “Individuals seeking to determine whether information about themselves is contained in this system should address written inquiries to the Assistant Director for Labor and Management Employee Relations, Human Resources Directorate, Washington Headquarters Services, Department of Defense, 1155 Defense Pentagon, Washington, DC 20301-1155.

Requests should include the individual's name, type of issue (e.g., administrative grievance), the case subject or case number, a current telephone number and be signed and dated.”

RECORD ACCESS PROCEDURES:

Delete entry and replace with “Individuals seeking access to information about themselves contained in this system should address written inquiries to the Office of the Secretary of Defense/Joint Staff Freedom of Information Act Requester Service Center, Office of Freedom of Information, 1155 Defense Pentagon, Washington, DC 20301-1155.

Requests should include the name and number of this system of records notice the type of issue (e.g., administrative grievance) and the case subject or case number and be signed and dated.”

CONTESTING RECORD PROCEDURES:

Delete entry and replace with “The Office of the Secretary of Defense's rules for accessing records, for contesting contents and appealing initial agency determinations are published in Office of the Secretary of Defense Administrative Instruction 81, 32 CFR part 311, or may be obtained from the system manager.”

RECORD SOURCE CATEGORIES:

Delete and replace with “The individual, management officials involved with the incident leading to or adjudication of grievance or unfair labor practice charges, Washington Headquarters Service Labor Management Employee Relations personnel, arbitrator's office, the Federal Labor Relations Authority Headquarters and Regional Offices, and union officials.”

* * * * *

DWHS P37

SYSTEM NAME:

Grievance and Unfair Labor Practices Records.

SYSTEM LOCATION:

Washington Headquarters Services (WHS), Human Resources Directorate (HRD), Labor and Management Employee Relations, Human Resources Directorate, Washington Headquarters Services, Department of Defense, 1155 Defense Pentagon, Washington, DC 20301-1155.

CATEGORIES OF INDIVIDUALS COVERED BY THE SYSTEM:

Employees of the Office of the Secretary of Defense, Joint Staff, Washington Headquarters Services, and Department of Defense (DoD) Agencies and Field Activities serviced by Washington Headquarters Services Human Resources Directorate who have submitted grievances covered by a negotiated grievance procedure or unfair labor practice charges.

CATEGORIES OF RECORDS IN THE SYSTEM:

Case file contains individual's name, case number, subject of grievance, background papers, and details pertaining to the case or issue. Case files may also contain the following information that is not solicited from individuals: work and/or home addresses and telephone numbers and Social Security Numbers (SSN).

AUTHORITY FOR MAINTENANCE OF THE SYSTEM:

5 U.S.C. 7121, Grievance Procedures; DoD 1400.25-M (Subchapter 771), DoD Civilian Personnel Manual (Administrative Grievance System); Washington Headquarters Services Administrative Instruction 37, Employee Grievances, and E.O. 9397 (SSN), as amended.

PURPOSE(S):

Records are used in the administration, processing, and resolution of unfair labor complaints, grievance arbitrations, negotiability, and representation issues. De-identified statistical data may be used by management for reporting and policy evaluation purposes.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

To officials of labor organizations reorganized under the Civil Service Reform Act when relevant and necessary to the performance of their exclusive representation duties concerning personnel policies, practices, and matters affecting working conditions.

To representatives of the U.S. Office of Personnel Management (OPM) on matters relating to the inspection, survey, audit, or evaluation of civilian personnel management programs.

To the Comptroller General, or any of his authorized representatives, in the course of the performance of duties of the Government Accountability Office relating to the Labor-Management Relations Program.

To arbitrators, examiners, or other third parties appointed to inquire into or adjudicate labor-management issues.

The ‘Blanket Routine Uses’ set forth at the beginning of the Office of the Secretary of Defense compilation of systems of records notices also apply to this system of records.

POLICIES AND PRACTICES FOR STORING, RETRIEVING, ACCESSING, RETAINING, AND DISPOSING OF RECORDS IN THE SYSTEM:

STORAGE:

Paper file folders and electronic storage media.

RETRIEVABILITY:

Names of individuals initiating grievance procedures, case number, and/or by subject matter.

SAFEGUARDS:

Records are maintained in areas only accessible to Labor Management Employee Relations personnel who must access the records to perform their official duties. The electronic records require a Common Access Card and can only be accessed by Labor Management Employee Relations personnel. Paper records are stored in locked file cabinets in secured offices and buildings that are locked and guarded during non-duty hours.

RETENTION AND DISPOSAL:

Grievance files are disposed of four years after the case is closed.

SYSTEM MANAGER(S) AND ADDRESS:

Assistant Director for Labor and Management Employee Relations, Human Resources Directorate, Washington Headquarters Services, Department of Defense, 1155 Defense Pentagon, Washington, DC 20301-1155.

NOTIFICATION PROCEDURE:

Individuals seeking to determine whether information about themselves is contained in this system should address written inquiries to the Assistant Director for Labor and Management Employee Relations, Human Resources Directorate, Washington Headquarters Services, Department of Defense, 1155 Defense Pentagon, Washington, DC 20301-1155.

Requests should include the individual's name, type of issue (e.g., administrative grievance), the case subject or case number, a current telephone number and be signed and dated.

RECORD ACCESS PROCEDURES:

Individuals seeking access to information about themselves contained in this system should address written inquiries to the Office of the Secretary of Defense/Joint Staff Freedom of Information Act Requester Service Center, Office of Freedom of Information, 1155 Defense Pentagon, Washington, DC 20301-1155.

Requests should include the name and number of this system of records notice the type of issue (e.g., administrative grievance) and the case subject or case number and be signed and dated.

CONTESTING RECORD PROCEDURES:

The Office of the Secretary of Defense's rules for accessing records, for contesting contents and appealing initial agency determinations are published in Office of the Secretary of Defense Administrative Instruction 81, 32 CFR part 311, or may be obtained from the system manager.

RECORD SOURCE CATEGORIES:

The individual, management officials involved with the incident leading to or adjudication of grievance or unfair labor practice charges, Washington Headquarters Service Labor Management Employee Relations personnel, arbitrator's office, the Federal Labor Relations Authority Headquarters and Regional Offices, and union officials.

EXEMPTIONS CLAIMED FOR THE SYSTEM:

None.

[FR Doc. 2010-30720 Filed 12-7-10; 8:45 am]

BILLING CODE 5001-06-P